DEPARTMENT OF THE INTERIOR

Bureau of Land Management

[18X.LLAK930100.L16100000.PN0000]

Notice of Intent To Prepare an Environmental Impact Statement for the Coastal Plain Oil and Gas Leasing Program, Alaska

AGENCY: Bureau of Land Management, Interior.

ACTION: Notice of Intent.

SUMMARY: In accordance with Section 20001 of the Tax Cuts and Jobs Act of 2017 (Tax Act), and the National Environmental Policy Act of 1969, (NEPA) as amended, and in a manner similar to the administration of lease sales under the Naval Petroleum Reserves Production Act of 1976, as amended, the Bureau of Land Management (BLM) Alaska State Office, Anchorage, Alaska, intends to prepare a Leasing Environmental Impact Statement (Leasing EIS) to implement an oil and gas leasing program within the area defined as the “Coastal Plain.”

DATES: This Notice initiates the public scoping process for the Leasing EIS. Comments on issues, impacts and potential alternatives to be analyzed may be submitted in writing until June 19, 2018. The BLM will hold public scoping meetings in Anchorage, Arctic Village, Fairbanks, Kaktovik and Utqiaġvik. The BLM may hold additional public scoping meetings in other communities if there is strong community interest. The dates, times, and locations of scoping meetings will be announced through local news media, newspapers, and the BLM website.

ADDRESSES: You may submit comments by any of the following methods:

• Website: [insert full URL].

• Email: blm_ak_coastalplain_EIS@blm.gov.

• Mail: BLM, Alaska State Office, Attention—Coastal Plain EIS, 222 West 7th Avenue, #13, Anchorage, AK 99513-7599.

FOR FURTHER INFORMATION CONTACT: Nicole Hayes, 907-271-4354; email blm_ak_coastalplain_EIS@blm.gov; or by mail: Bureau of Land Management, 222 West 7th Avenue, #13, Anchorage, Alaska 99513-7599. You may also request to be added to the mailing list for the EIS. Documents pertaining to the EIS may be examined at http://www.blm.gov/alaska.

Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The BLM is undertaking a Coastal Plain Oil and Gas Leasing EIS to implement the leasing program pursuant to the Tax Act (Pub. L. 115-97, Dec. 22, 2017). The Leasing EIS will serve to inform BLM's implementation of the Tax Act, including the requirement to hold not fewer than two lease sales area-wide. It may also inform post-lease activities, including seismic and drilling exploration, development, and transportation of oil and gas in and from the Coastal Plain. Specifically, the Leasing EIS will consider and analyze the potential environmental impacts of various leasing alternatives, including the areas to offer for sale, and the terms and conditions (i.e., lease stipulations and best management practices) to be applied to leases and associated oil and gas activities to properly balance oil and gas development with existing uses and conservation of surface resources, and to limit the footprint of production and support facilities on Federal lands to no more than 2,000 surface acres. The area comprising the Coastal Plain includes approximately 1.6 million acres within the approximately 19.3 million-acre Arctic National Wildlife Refuge.

The purpose of the public scoping process is to determine the scope of issues to be addressed and to identify the significant issues related to implementing an oil and gas leasing program within the Coastal Plain. Information received during scoping will influence the development of the proposed action and alternatives and guide the environmental analysis.

The BLM will work collaboratively with interested parties to identify the management decisions best suited to local, regional, and national needs and concerns, as well as to develop a proposed action and alternatives consistent with the following criteria:

• The EIS will consider all Federal lands and waters within the area defined by Congress as the Coastal Plain;

• The EIS will address oil and gas leasing and will use scoping to identify issues, impacts and potential alternatives to be addressed;

• Under the Tax Act, not fewer than two lease sales, each to include not fewer than 400,000 acres area-wide of the areas with the highest potential of hydrocarbons, must occur by December 2024;

• The BLM will consider subsistence resources and users, as well as potential actions to minimize adverse impacts to subsistence in accordance with section 810 of the Alaska National Interest Lands Conservation Act (ANILCA); and

• The EIS will appropriately consider the surface management of the Coastal Plain.

Future on-the-ground actions requiring subsequent BLM approval, including proposed seismic and exploration plans or development proposals, would require subsequent NEPA analysis based on specific and detailed information about where and what kind of activity is proposed. Additional site-specific terms and conditions may be required by the Authorized Officer prior to authorizing any oil and gas activity.

Upon completion of a Record of Decision, the BLM intends to conduct lease sales in accordance with the Tax Act.

Authority: 40 CFR 1501.7.

Karen E. Mouritsen,
Acting State Director, Alaska.

[FR Doc. 2018-08302 Filed 4-19-18; 8:45 am]

BILLING CODE 4310-JA-P